DEPARTMENT OF ENERGY

Federal Energy Regulatory Commission

[Docket No. CP17-28-000]

Eastern Shore Natural Gas Company; Notice of Schedule for Environmental Review of the 2017 Expansion Project

On December 30, 2016, Eastern Shore Natural Gas Company (Eastern Shore) filed an application in Docket No. CP17-28-000 requesting a Certificate of Public Convenience and Necessity pursuant to Section 7(c) of the Natural Gas Act to construct and operate certain natural gas pipeline facilities. Eastern Shore's proposal is known as the 2017 Expansion Project (Project), and would involve construction of approximately 40 miles of pipeline and appurtenant facilities located in Pennsylvania, Maryland, and Delaware to provide 61,162 dekatherms per day of additional firm transportation service.

On January 11, 2017, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—May 12, 2017.

90-day Federal Authorization Decision Deadline—August 10, 2017.

If a schedule change becomes necessary, additional notice will be provided so that the relevant agencies are kept informed of the Project's progress.

Project Description

The facilities to be constructed and operated under Section 7(c) include: (1) Six pipeline loop segments totaling 22.7 miles; (2) one 10-inch-diameter 16.9-mile-long mainline extension; (3) upgrades to an existing Meter and Regulator Station in Lancaster County, Pennsylvania; (4) installation of an additional 3,750 horsepower compressor unit at the existing Daleville Compressor Station in Chester County, Pennsylvania; and (5) the addition of two pressure control stations in Sussex County, Delaware.

Background

On August 1, 2016, the Commission issued a Notice of Intent To Prepare an Environmental Assessment for the Proposed 2017 Expansion Project and Request for Comments on Environmental Issues (NOI). The NOI was issued during the pre-filing review of the Project in Docket no. PF16-7 and was sent to federal, state, and local government representatives and agencies; elected officials; Native American tribes; potentially affected landowners; and other interested individuals and groups in the Project area. In response to the Notice of Intent, the Commission received comments from the Pennsylvania Department of Environmental Protection, West Sadsbury Township, the Chester Water Authority, the Maryland Historical Trust, the Delaware Department of Natural Resources and Environmental Control—Division of Fish and Wildlife, the Franklin Township Historical Commission, and the National Park Service. The primary concerns raised were regarding wetland and waterbody impacts; potential damage to water mains; impacts on the White Clay Creek National Wild and Scenic River; potential impacts on bog turtles and their habitat; and potential impacts on historic, scenic, or cultural resources. Five private landowners filed comments expressing questions or concerns regarding the right-of-way acquisition process, overall public safety and pipeline reliability, restoration efforts, and the procedures to be used should future roadway widening occur where the pipeline is installed under the highway.

The U.S. Army Corps of Engineers and the U.S. Department of Agriculture Natural Resources Conservation Service are cooperating agencies in the preparation of the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp. Additional information about the Project is available from the Commission's Office of External Affairs at (866) 208-FERC or on the FERC Web site (www.ferc.gov). Using the “eLibrary” link, select “General Search” from the eLibrary menu, enter the selected date range and “Docket Number” excluding the last three digits (i.e., CP17-28), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: March 10, 2017.
Kimberly D. Bose,
Secretary.

[FR Doc. 2017-05308 Filed 3-16-17; 8:45 am]

BILLING CODE 6717-01-P